DEPARTMENT OF TRANSPORTATION

Office of the Secretary

Notice of Applications for Certificates of Public Convenience and Necessity and Foreign Air Carrier Permits Filed Under Subpart B (Formerly Subpart Q) During the Week Ending August 23, 2002

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-13203.

Date Filed: August 20, 2002.

Due Date for Answers, Conforming Applications, or Motion to Modify Scope: September 10, 2002.

Description: Application of Emirates, pursuant to 49 U.S.C. Section 41302, 14 CFR Part 211 and Subpart B, requesting a foreign air carrier permit authorizing it to engage in scheduled foreign air transportation of persons, property, and mail, including all-cargo service, from points behind the U.A.E., via the U.A.E. and intermediate points, to a point or points in the United States and beyond. Emirates also requests, authority to engage in all-cargo service between the United States and any point or points in third countries, and to operate charters pursuant to 14 CFR Part 212.

Docket Number: OST-2002-13207.

Date Filed: August 21, 2002.

Due Date for Answers, Conforming Applications, or Motion to Modify Scope: September 11, 2002.

Description: Application of Clair Aero, Inc., pursuant to 49 U.S.C. Section 41738 and Subpart B, requesting authority to engage in scheduled passenger operations as a commuter air carrier.

Docket Number: OST-2002-13230.

Date Filed: August 23, 2002.

Due Date for Answers, Conforming Applications, or Motion to Modify Scope: September 13, 2002.

Description: Application of Dairo Air Services Limited d/b/a DAS Air Cargo (“DAS”), pursuant to 49 U.S.C. Section 41302, 14 CFR Part 211 and Subpart B, requesting a foreign air carrier permit authorizing DAS to provide scheduled air transportation of property and mail between the United States and any point or points, as permitted by Annex I of the U.S.-Uganda open skies agreement, commencing on or about October 1, 2002. DAS also requests, authority to conduct U.S.-Uganda and U.S.-third country all-cargo charters, as permitted by Annex II of the open skies agreement.

Andrea M. Jenkins,
Federal Register Liaison.

[FR Doc. 02-22512 Filed 9-3-02; 8:45 am]

BILLING CODE 4910-62-P